DEPARTMENT OF AGRICULTURE

Rural Housing Service

Farm Service Agency

Notice of Request for Extension of a Currently Approved Information Collection

AGENCIES: Rural Housing Service, Farm Service Agency, USDA.

ACTION: Extension of a Currently Approved Information Collection; comments requested.

SUMMARY: In accordance with the Paperwork Reduction Act of 1995, this notice announces the subject agencies' intention to request an extension for a currently approved information collection in support of the programs for 7 CFR, part 1955, subpart B, “Management of Property”.

DATES: Comments on this notice must be received by September 7, 2004 to be assured of consideration.

FOR FURTHER INFORMATION CONTACT: Constance Beckwith, Senior Loan Officer, USDA, FSA, Farm Loan Programs, Loan Servicing Division, 1400 Independence Ave. SW., Washington, DC 20250-0523, telephone (202) 720-9769. Electronic mail: constance_beckwith@wdc.usda.gov.

SUPPLEMENTARY INFORMATION:

Title: 7 CFR, Part 1955-B, Management of Property.

OMB Number: 0575-0110.

Expiration Date of Approval: January 31, 2005.

Type of Request: Extension of a currently approved information collection.

Abstract: This regulation prescribes the policies and procedures for the management of real property which has been taken into custody by the agency after abandonment by the borrower and management of real and chattel property which is in the agency inventory.

Estimate of Burden: Public reporting for this collection of information is estimated to average 28 minutes per response.

Respondents: Individuals or households, businesses or other for profit organizations and farms.

Estimated Number of Respondents: 155.

Estimated Number of Responses per Respondent: 1.

Estimated Number of Responses: 155.

Estimated Total Annual Burden on Respondents: 73.

Comments: Comments are invited on: (a) Whether the proposed collection of information is necessary for the proper performance of the functions of the subject agencies, including whether the information will have practical utility; (b) the accuracy of the agencies' estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to Renita Bolden, Regulations and Paperwork Management Branch, Support Services Division, U.S. Department of Agriculture, Rural Development, STOP 0742, 1400 Independence Ave., SW., Washington, DC 20250.

All responses to this notice will be summarized and included in the request for OMB approval. All comments will also become a matter of public record.

Dated: June 23, 2004.
James R. Little,
Administrator, Farm Service Agency.
Dated: June 25, 2004.
James C. Alsop,
Administrator, Rural Housing Service.

[FR Doc. 04-15137 Filed 7-2-04; 8:45 am]

BILLING CODE 3410-XV-P